DEPARTMENT OF HOUSING AND URBAN DEVELOPMENT

[Docket No. FR-4861-C-02]

Notice of Funding Availability for Revitalization of Severely Distressed Public Housing HOPE VI Revitalization and Demolition Grants Fiscal Year 2003; Correction

AGENCY: Office of the Assistant Secretary for Public and Indian Housing, HUD.

ACTION: Notice of funding availability; correction.

SUMMARY: On October 21, 2003, HUD published the Notice of Funding Availability (NOFA) for Revitalization of Severely Distressed Public Housing HOPE VI Revitalization and Demolition Grants for Fiscal Year 2003. This notice corrects that funding announcement by notifying applicants of the new government-wide requirement that all applicants for Federal grants and cooperative agreements must provide a Dun and Bradstreet Data Universal Numbering System (DUNS) number with their applications. In addition, this document makes several other corrections to the NOFA.

DATES: (1) Revitalization Applications. Revitalization grant applications are due on January 20, 2004. (2) Demolition Applications. Demolition grant applications will only be accepted from January 5, 2004, through February 18, 2004. Applications received before January 5, 2004, will be returned to the applicant and will not be considered unless resubmitted on or after January 5, 2004, through February 18, 2004. This correction notice makes no change to the application deadlines.

FOR MORE INFORMATION CONTACT: Leigh van Rij, Office of Public Housing Investments, Office of Public and Indian Housing, Department of Housing and Urban Development, 451 Seventh Street, SW., Washington DC, 20410-5000; telephone (202) 401-8812 (this is not a toll-free number). Hearing- or speech-impaired individuals may access this number via TTY by calling the toll-free Federal Information Relay Service at (800) 877-8339.

SUPPLEMENTARY INFORMATION: On October 21, 2003 (68 FR 60178), HUD published its Notice of Funding Availability (NOFA) for Revitalization of Severely Distressed Public Housing HOPE VI Revitalization and Demolition Grants for Fiscal Year (FY) 2003. This notice corrects the NOFA by requiring applicants to provide in their application package, a Dun and Bradstreet Data Universal Numbering System (DUNS) number. This correction is required by an Office of Management and Budget (OMB) policy directive issued in the Federal Register on June 27, 2003 (68 FR 38402). The policy directive requires all applicants who will be directly receiving funding to provide a DUNS number when applying for Federal grants or cooperative agreements on or after October 1, 2003. This information was inadvertently left out of the October 21, 2003 NOFA.

In addition to the DUNS requirement, HUD makes nine additional corrections in this document. Subsequent to publication, it was discovered that the list of years for which 90 percent of Capital Funds must have been obligated prior to the application deadline, inadvertently included FY1999. This error is corrected in this document. Additionally, it was determined that the paragraph entitled, “Threshold: Selection of Developer” was unclear and is made clear by this correction notice. This document also clarifies the section entitled, “Capacity of Existing HOPE VI Revitalization Grantees.” This correction notice makes clear in the “Project Readiness” section of the NOFA and the application kit that applicants will receive 2 Points if the targeted severely distressed public housing site is cleared or the applicant's Revitalization Plan only includes rehabilitation and not demolition of public housing units. Finally, this correction substitutes Attachment 9, the “TDC/Grant Limitations Worksheet,” which has been recently updated with current data and instructions.

Subsequent to the October 21, 2003 publication of this NOFA, the Federal Register published (68 FR 61044) a correction to the application deadline for the Revitalization grants. The deadline for applications for Revitalization applications under this NOFA is January 20, 2004.

Accordingly, the Notice of Funding Availability for Revitalization of Severely Distressed Public Housing HOPE VI Revitalization and Demolition Grants for Fiscal Year 2003, published in the Federal Register on October 21, 2003, (68 FR 60178) is corrected to read as follows:

1. On page 60179, in the middle column, under section III. entitled, “Application Submission Information,” a new paragraph (4) is added after paragraph (A)(3) to read as follows:

“(4) New government-wide DUNS requirement. Beginning October 1, 2003, all applicants must provide a Dun and Bradstreet Data Universal Numbering System (DUNS) number to apply for a grant or cooperative agreement from the federal government. Applicants are required to provide a DUNS number with the application. OMB is currently updating the SF-424 to accommodate the submission of the DUNS, however, at this time, applicants should simply indicate the DUNS number on a separate sheet of paper and include with the application package. (This extra page will not count toward the total page number limit for your application.) Organizations can receive a DUNS number at no cost by calling the dedicated toll-free DUNS Number request line at 1-866-705-5711 or applying on-line at http://www.dunandbradstreet.com. For faster service, HUD recommends using the telephone request line to obtain the DUNS number.

Failure to provide the DUNS number with your application will be considered a curable deficiency. The DUNS number is considered a threshold requirement and failure to provide the DUNS number will prohibit an organization from receiving an award.”

2. On page 60185, in the third column, paragraph (12) is corrected to read as follows: “An applicant must have obligated at least 90 percent of its FY 2000 and 2001 Capital Funds in accordance with Section IV(A)(2) of this NOFA.”

3. On page 60188, in the first column, under the paragraph entitled, “(2) Threshold: Obligation of Capital Funds,” the second sentence is corrected by removing the year “1999” so the sentence reads as follows: “HUD will not consider any application from a PHA that failed to obligate 90 percent or more of its FY2000 and 2001 Capital Funds by the applicable obligation deadlines, as required by Section (9)(j) of the U.S. Housing Act of 1937, unless the Deputy Secretary has approved an extension.”

4. On page 60188, in the middle column, the first sentence in subparagraph (a) under the paragraph entitled, “(4) Threshold: Selection of Developer,” is corrected to read as follows: “You have initiated RFQ competitive procurement procedures in accordance with 24 CFR 85.36 and 24 CFR 941.602(d) (as applicable), for your first phase of construction by the application due date.”

5. On page 60189, in the third column, the fourth sentence under the paragraph entitled, “(2) Capacity of Existing HOPE VI Revitalization Grantees,” is corrected to read as follows: “As indicated in the following tables, up to 5 Points will be deducted if a Grantee has failed to achieve adequate progress in relation to cumulative unit production.”

6. On page 60201, in the third column, subparagraph (b) under the paragraph entitled, “(4) Project Readiness,” is corrected to read as follows: “(b) You will receive 2 Points if the targeted severely distressed public housing site is cleared or your Revitalization Plan only includes rehabilitation and no demolition of public housing units.”

7. On page 60217, the first sentence in paragraph B.1 is corrected to read: “If you are a Moving to Work participant and are not required to enter obligations into LOCCS, review Section IV(A)(2) of the NOFA and indicate the percentage of FY 2000 and 2001 Capital Funds amounts you have obligated.”

8. On page 60217, paragraph B.4 is corrected to read as follows: “Capacity of Existing HOPE VI Revitalization Grantees. This Rating Factor is found at Section IV(B)(2). HUD will use information in the quarterly reporting system in order to evaluate this rating factor. This rating factor is only applied to PHAs with existing HOPE VI Revitalization grants from Fiscal Years 1993-2000.”

9. On page 60266, entitled, “Attachment 31: Project Readiness,” the second item on the list for check-off is corrected to read as follows: “The targeted severely distressed public housing site is cleared or your Revitalization Plan only includes rehabilitation and no demolition of public housing units.”

10. The “TDC/Grant Limitations Worksheet,” that appears at pages 60256, 60257, and 60258 is removed and replaced with the version appended to this document.

Dated: December 2, 2003.
Michael Liu,
Assistant Secretary for Public and Indian Housing.

BILLING CODE 4210-33-P

[FR Doc. 03-30506 Filed 12-8-03; 8:45 am]

BILLING CODE 4210-33-C